DEPARTMENT OF COMMERCE

National Oceanic and Atmospheric Administration

50 CFR Part 660

[Docket No. 040830250-5062-03; I.D. 042205C]

Fisheries Off West Coast States and in the Western Pacific; Pacific Coast Groundfish Fishery; Specifications and Management Measures; Inseason Adjustments; Pacific Halibut Fisheries; Corrections

AGENCY: National Marine Fisheries Service (NMFS), National Oceanic and Atmospheric Administration (NOAA), Commerce.

ACTION: Inseason adjustments to management measures; announcement of incidental halibut retention allowance; corrections; request for comments.

SUMMARY: NMFS announces changes to management measures in the commercial and recreational Pacific Coast groundfish fisheries. NMFS also announces regulations for the retention of Pacific halibut landed incidentally in the limited entry longline primary sablefish fishery north of Pt. Chehalis, WA (46°53.30′ N. lat.). This document also contains notification of a voluntary closed area (also called an “area to be avoided”) off Washington for salmon trollers. These actions, which are authorized by the Pacific Coast Groundfish Fishery Management Plan (FMP), will allow fisheries to access more abundant groundfish stocks while protecting overfished and depleted stocks. This action also corrects the trawl gear regulatory language for chafing gear and selective flatfish trawl gear.

DATES: Effective 0001 hours (local time) May 1, 2005, except that the amendments to 50 CFR 660.381 (b)(5)(i) are effective June 3, 2005. Comments on this rule will be accepted through June 3, 2005.

ADDRESSES: You may submit comments, identified by 042205C, by any of the following methods:

• E-mail: GroundfishInseason2.nwr@noaa.gov. Include I.D. number in the subject line of the message.

• Federal eRulemaking Portal: http://www.regulations.gov. Follow the instructions for submitting comments.

• Fax: 206-526-6736, Attn: Carrie Nordeen.

• Mail: D. Robert Lohn, Administrator, Northwest Region, NMFS, Attn: Carrie Nordeen, 7600 Sand Point Way NE, Seattle, WA 98115-0070.

FOR FURTHER INFORMATION CONTACT: Jamie Goen or Carrie Nordeen (Northwest Region, NMFS), phone: 206-526-6140; fax: 206-526-6736; and e-mail: carrie.nordeen@noaa.gov.

SUPPLEMENTARY INFORMATION:

Electronic Access

This Federal Register document is available on the Government Printing Office′s website at: www.gpoaccess.gov/fr/index.html.

Background information and documents are available at the NMFS Northwest Region website at: www.nwr.noaa.gov/1sustfsh/gdfsh01.htm and at the Pacific Fishery Management Council′s website at: www.pcouncil.org.

Background

The Pacific Coast Groundfish FMP and its implementing regulations at title 50 in the Code of Federal Regulations (CFR), part 660, subpart G, regulate fishing for over 80 species of groundfish off the coasts of Washington, Oregon, and California. Groundfish specifications and management measures are developed by the Pacific Fishery Management Council (Pacific Council), and are implemented by NMFS. The specifications and management measures for 2005-2006 were codified in the CFR (50 CFR part 660, subpart G) and published in the Federal Register as a proposed rule on September 21, 2004 (69 FR 56550), and as a final rule on December 23, 2004 (69 FR 77012). The final rule was subsequently amended on March 18, 2005 (70 FR 13118) and March 30, 2005 (70 FR 16145).

The Northern Pacific Halibut Act of 1982 (16 U.S.C. 773-773k) (Halibut Act) and its implementing regulations at 50 CFR part 300, subpart E, regulate fishing for Pacific Halibut in U.S. Convention waters. The Halibut Act also authorizes the Pacific Council to develop regulations governing the Pacific halibut catch in waters off of Washington, Oregon, and California that are in addition to, but not in conflict with, regulations of the International Pacific Halibut Commission (IPHC). Accordingly, the Pacific Council has developed, and NMFS has approved, a catch sharing plan (CSP) to allocate the total allowable catch (TAC) of Pacific halibut between treaty Indian and non-Indian harvesters, and among non-Indian commercial and sport fisheries in IPHC statistical Area 2A (off Washington, Oregon, and California). The CSP, as implemented at 50 CFR part 300, provides for retention of halibut landed incidentally in the limited entry, longline primary sablefish fishery north of Pt. Chehalis, WA (46°53.30′ N. lat.) in years when the Area 2A TAC is above 900,000 lb (408.2 mt). Because the Area 2A TAC is above 900,000 lb (408.2 mt) in 2005, NMFS is establishing an allowance for incidental halibut retention in the primary sablefish fishery in 2005.

The following changes to current groundfish management measures were recommended by the Pacific Council, in consultation with Pacific Coast Treaty Indian Tribes and the States of Washington, Oregon, and California, at its April 3-8, 2005, meeting in Tacoma, WA. The changes recommended by the Pacific Council include: (1) changes to the limited entry trawl trip limits, (2) changes to the trawl RCA for limited entry trawl fisheries and open access non-groundfish trawl fisheries, (3) a clarification to the trawl gear language in 50 CFR 660.381 regarding chafing gear and selective flatfish trawl gear, (4) an incidental catch allowance for halibut in the limited entry primary sablefish fishery north of Pt. Chehalis, WA, (5) a voluntary area closure off Washington for salmon trollers and (6) changes to California′s recreational groundfish fishery seasons and Rockfish Conservation Areas (RCAs). Pacific Coast groundfish landings will be monitored throughout the year, and further adjustments to trip limits or management measures will be made as necessary to allow achievement of, or to avoid exceeding, optimum yields (OYs).

Limited Entry Trawl Limit Adjustments and RCA Changes

The trawl RCAs and limited entry trawl trip limits for Dover sole, “other flatfish,” petrale sole, English sole, arrowtooth flounder, minor slope rockfish, darkblotched rockfish and splitnose rockfish are adjusted based on updated trawl model projections and current fish ticket landings data from the Pacific Fisheries Information Network database (PacFIN).

The trawl model used to project trawl catch of target groundfish species and bycatch of overfished species was updated by the NMFS Northwest Fisheries Science Center for the April Pacific Council meeting. The trawl model was updated to include new fishticket, logbook and observer data, as well as other minor changes such as separating English sole from “other flatfish” in the trawl model.

Previously, the trawl model had used a weighted average of fishticket data from 2000 through 2003 to document the amount of target species landings for each limited entry trawl vessel participating in the fishery. For the updated model, fishticket data from 2004 replaced the data from 2000. The updated model continues to use a weighted average for 2001 through 2004 data, with greater weight given to more recent year′s data.

Similarly, the trawl model had previously used a weighted average of trawl logbook data from 2000 through 2003 to develop a baseline of each vessel's target catch among depth zones. Where possible, 2004 logbook data replaced data from 2000. However, logbook data are often incomplete early in the year. For the updated trawl model, a large portion of Oregon's 2004 logbook data and California's logbook data from the last six months of 2004 are still not available. Therefore, for periods where data are not complete for 2004, a weighted average from 2001 through 2003 was used in the updated model. As logbook data for 2004 becomes available from Oregon and California, the trawl model will be updated during 2005. Due to the inability to include the 2004 Oregon logbook data, concerns over the effect of higher fuel prices on fleet depth distribution, and possible impacts on canary rockfish, an overfished groundfish species, inseason adjustments were modeled assuming a higher likelihood that vessels will fish shoreward of the trawl rockfish conservation area (RCA) than was modeled in 2004.

New observer data from September 2003 through August 2004 was also used to update the trawl model. NMFS West Coast Groundfish Observer Program (WCGOP) reports are available online: http://www.nwfsc.noaa.gov/research/divisions/fram/observer/. The trawl model was adjusted to account for the new 2005 requirement to use selective flatfish trawl gear shoreward of the trawl RCA north of 40°10′ N. lat.

In addition to updating the trawl model, fishticket landings data from PacFIN for the first cumulative limit period (January through February) in 2005 were reviewed and compared to trawl model projections for 2005. Landings for petrale sole, trawl sablefish, longspine, arrowtooth, and Dover sole were higher than what had been projected for that period in the trawl model, while landings of slope rockfish, including darkblotched rockfish and splitnose rockfish, were substantially below initial model projections. The higher landings of petrale and Dover sole are of particular concern, because access to flatfish stocks are substantially more liberal than in recent years, and these species were initially modeled to achieve their respective OYs. Therefore, flatfish trip limits were reduced in order to slow the catch of flatfish species.

Current slope rockfish landings are tracking slower than projected for 2005; however, the Pacific Council was reluctant to increase trip limits for these species based on its concern over the results from management actions in 2004. In May 2004, the Pacific Council had recommended trawl management measures that affected the catch rate of darkblotched rockfish. Specifically, the trawl slope rockfish cumulative limit was increased (from 4,000 lbs (1.8 mt) to 8,000 lbs (3.6 mt) per 2 months north of 40°10′N. lat.) and the seaward trawl RCA boundary was moved from 200 fm (366 m) to 150 fm (274 m) (north of 40°′N. lat.). Targeting on slope rockfish increased after the May 2004 inseason action, and industry members reported that there was a size-related market discard factor for small darkblotched rockfish that was independent of trip limit size. The combination of these factors contributed to an increased darkblotched encounter rate, and potentially the discard rate.

In September 2004, the Pacific Council made a recommendation to drastically slow the catch of darkblotched rockfish based on PacFIN fishticket landings data and, for non-whiting trawl, on a preliminary estimated discard proportion measured by information collected from the WCGOP from the 2003 fishery when the slope rockfish limit was 1,800 lbs (816 mt) per 2-months. NMFS implemented reduced trip limits and RCA changes to bring the catch of darkblotched rockfish to near zero for the remainder of 2004 through an inseason action published in the Federal Register on October 6, 2004 (69 FR 59816). In the preamble to the final rule to implement the 2005-2006 groundfish specifications and management measures (69 FR 77012, December 23, 2004), NMFS stated that, based on data available at that time, it believed that the 2004 darkblotched rockfish acceptable biological catch/OY had been exceeded by September 2004. NMFS is in the process of reviewing the updated 2004 catch data using the updated trawl model.

Also in response to the higher darkblotched rockfish mortalities, the Pacific Council recommended and NMFS implemented more restrictive limited entry trawl management measures for the beginning of 2005 as a precautionary measure until new observer data were available. Specifically, in the area north of 40°10′ N. lat, the RCA boundary scheduled for Period 1 (January through February) was moved from a boundary line approximating the 150-fm (274-m) depth contour to one approximating the 200-fm (366-m) depth contour, modified to allow fishing in petrale areas, and the slope rockfish trip limits were reduced to 4,000 lbs (1.8 mt) per 2 months (i.e., the same trip limit that was in place in Period 1 of 2004). These RCA boundaries and trip limits were also adopted for the area between 40E10′ N. lat and 38E N. lat. due to uncertainty in darkblotched encounter rates for that area. At that time, the Pacific Council anticipated that these RCA boundaries and/or trip limits would then be adjusted inseason in April 2005 as more discard information became available from the 2004 Observer Program.

At its April 2005 meeting, the Pacific Council recommended liberalizing the seaward trawl RCA boundary for 2005 from a boundary line approximating the 200-fm (366-m) depth contour back to one approximating the 150-fm (274-m) depth in this area, and increasing the minor slope rockfish and splitnose limits from 4,000 lbs (1.8) mt) per 2 months to 8,000 lbs (3.6 mt) per 2 months for the following reasons: (1) the darkblotched rockfish encounter rate for the area south of 40°10′N. lat. is much lower than the encounter rate for the area north of 40°10′ N. lat. and, therefore, is expected to result in a minimal increased amount of darkblotched catch, and; (2) the area between 40°10′ N. lat. and 38° N. lat. was overly constrained through action taken in September 2004, as a temporary precautionary measure, until NMFS Observer Program data were available.

In general, using the encounter rates based on information from the NMFS Observer Program, as used in the trawl model, produced an anticipated total catch estimate of darkblotched rockfish for all fisheries combined of 172.3 mt (as compared to a 2005 OY of 269 mt). Therefore, while the Pacific Council recommended moving the RCA boundary and increasing the slope rockfish trip limits between 40°10′ N. lat. and 38° N. lat., they recommended a precautionary approach to the magnitude of adjustment (i.e., only increasing limits to 8,000 lbs (3.6 mt) per 2 months, rather than increasing them to a higher limit) at this time. Therefore, the Pacific Council recommended and NMFS is implementing the following inseason adjustments:

(1) Decrease Dover sole trip limits with large and small footrope trawl gear from 69,000 lbs (31.3 mt) per 2 months to 22,000 lbs (10.0 mt) per 2 months in Period 6 (November through December) north of 40°10′ N. lat. ;

(2) Decrease Dover sole trip limits with selective flatfish trawl gear from 50,000 lbs (22.7 mt) per 2 months to 35,000 lbs (15.9 mt) per 2 months (15.9 mt) in Periods 3 through 5 (May through October) and from 20,000 lbs (9.1 mt) per 2 months (9.1 mt) to 8,000 lbs (3.6 mt) per 2 months on Period 6 north of 40°10′ N. lat.;

(3) Decrease petrale sole sub-trip limit in the other flatfish and English sole trip limit with large and small footrope trawl gear from 42,000 lbs (19.1 mt) per 2 months (19.1 mt) to 40,000 lbs (18.1 mt) per 2 months (18.1 mt) in Periods 3 through 5 north of 40°10′ N. lat.;

(4) In Period 6 decrease the other flatfish and english sole trip limit from 110,000 lbs (49.9 mt) per 2 months (49.9 mt) to 80,000 lbs (36.3 mt) per 2 months north of 40°10′ N. lat., make petrale sole a sublimit and decrease it from “not limited” to 60,000 lbs (27.2 mt) per 2 months (27.2 mt);

(5) Decrease the other flatfish, English and petrale sole trip limits with selective flatfish trawl gear from 100,000 lbs per (45.4 mt) per 2 months to 90,000 lbs (40.8 mt) per 2 months in Periods 3 through 5 north of 40°10′ N. lat.;

(6) In period 6 decrease the other flatfish, English and petrale sole trip limits with selective flatfish trawl gear from 100,000 lbs (45.4 mt) per 2 months (45.4 mt) to 75,000 lbs (34.0 mt) per 2 months (34.0 mt) and the petrale sole sublimit from 25,000 lbs (11.3 mt) per 2 months (11.3 mt) to 15,000 lbs (6.8 mt) per 2 months (6.8 mt) north of 40°10′ N. lat.;

(7) Decrease arrowtooth flounder trip limits with large and small footrope trawl gear from “not limited” to 80,000 lbs per (36.3 mt) per 2 months in Period 6 north of 40°10′ N. lat.;

(8) Decrease Dover sole trip limits from 50,000 lbs (22.7 mt) per 2 months to 40,000 lbs (18.1 mt) per 2 months in Periods 3 through 5 and from 50,000 lbs (22.7 mt) per 2 months to 35,000 lbs (15.9 mt) per 2 months in Period 6 south of 40°10′ N. lat.;

(9) In Period 6 make petrale sole a sub-trip limit of other flatfish and English sole and decrease it from “not limited” to 100,000 lbs (45.4 mt) 2 months south of 40°10′ N. lat.;

(10) Decrease arrowtooth flounder trip limits in Period 6 from “not limited” to 20,000 lbs (9.1 mt) 2 months south of 40°10′ N. lat.;

(11) Increase minor slope rockfish and darkblotched and splitnose rockfish trip limits from 4,000 lbs (1.8 mt) per 2 months to 8,000 lbs (3.6 mt) per 2 months in Periods 3 through 6 between 40°10′ N. lat. and 38° N. lat.;

(12) Move the seaward boundary of the trawl RCA for limited entry trawl and open access non-groundfish trawl from a boundary line approximating the 200-fm (366-m) depth contour to a boundary line approximating the 150-fm (274-m) depth contour in Periods 3 through 6 between 40°10′ N. lat. and 38° N. lat. [Note: North of 40°10′ N. lat., multiple bottom trawl gear trip limits are adjusted to match trip limits for the most restrictive gear type for that species in the trip limits table, Table 3 (North).]

Retention of Incidental Halibut Catch in the Primary Sablefish Fishery North of Pt. Chehalis, WA

The Pacific halibut CSP and implementing regulations at 50 CFR 300.63(b)(3) provide for retention of halibut landed incidentally in the limited entry, longline primary sablefish fishery north of Pt. Chehalis, WA (46°53.30′ N. lat.) in years when the Area 2A TAC is above 900,000 lb (408.2 mt). The 2005 Area 2A TAC is 1,330,000 lb (603 mt).

According to IPHC and Federal regulations, Pacific halibut may not be taken by gear other than hook-and-line gear. Only vessels registered for use with sablefish-endorsed limited entry permits may participate in the primary fixed gear sablefish fishery specified for halibut retention in the CSP. Vessels must also carry IPHC commercial halibut licenses in order to retain and land halibut. Incidental halibut retention in the primary sablefish fishery is only available to vessels operating north of Pt. Chehalis, WA (46°53.30′ N. lat.). Under Pacific halibut regulations at 50 CFR 300.63, halibut taken and retained in the primary sablefish fishery may not be possessed or landed south of Pt. Chehalis, WA (46°53.30′ N. lat.).

Similar to 2004, halibut caught incidentally in the primary sablefish fishery may be retained by appropriately licensed longline vessels. In 2005, the amount of incidental halibut retained in the primary sablefish fishery is capped at 70,000 lb (31.8 mt), to ensure that the fishery is maintained as an incidental and not as a directed fishery. The objective for setting annual landing restrictions is to reach the halibut quota for this fishery at about the same time as the primary sablefish season ends, October 31, and to ensure an equitable sharing of the halibut landings among the fishers. To achieve this objective, incidental halibut retention in the sablefish fishery over the past few years has been structured as a ratio of halibut landings permitted in relation to sablefish landings.

Therefore, the Pacific Council recommended, and NMFS is implementing the following: Beginning May 1, 2005, and continuing until the halibut quota (70,000 lbs or 31.8 mt) is taken, longliners eligible to participate in the primary sablefish fishery north of Pt. Chehalis, WA (46°53.30′ N. lat.) (see 50 CFR 660.372(a)) with appropriate IPHC licenses may retain incidental halibut landings up to 100 lbs (45 kg) (dressed weight) of halibut for every 1,000 lbs (454 kg) (dressed weight) of sablefish landed and up to two additional halibut in excess of the 100 lb (45 kg) per 1,000 lb (454 kg) ratio per landing. Halibut may not be on board a vessel that has any gear other than longline gear on board (e.g., pot or trawl gear).

Voluntary “C-shaped” Closure off Washington for Salmon Troll Fisheries

Since 2003, NMFS has implemented a “C-shaped” Yelloweye Rockfish Conservation Area (YRCA) off the Washington coast to protect yelloweye rockfish, an overfished species (see 50 CFR 660.390(a)). For 2005, the “C-shaped” YRCA is a mandatory closed area for recreational groundfish and recreational Pacific halibut fishing. In addition, the “C-shaped” YRCA has been designated as an area to be avoided (a voluntary closure) by commercial fixed gear groundfish fishermen at §§ 660.382(c)(1) and 660.383(c)(1). Much of the YRCA is already closed to commercial groundfish fixed gear fishermen by the non-trawl RCA, which extends from the Washington shoreline to specific latitude and longitude coordinates that approximate the 100-fm (183-m) depth contour.

To further protect yelloweye rockfish, the Pacific Council has recommended that the “C-shaped” YRCA in the North Coast subarea (Washington Marine Area 3) also be designated as an area to be avoided (a voluntary closure) by salmon trollers to protect yelloweye rockfish.

California's Recreational Groundfish Fishery Seasons and RCAs

At the March 2005 Pacific Council meeting, the California Department of Fish and Game (CDFG) provided an Informational Report that summarized the California Recreational Fisheries Survey (CRFS) program implementation and validation process, and provided recreational groundfish catch and effort estimates by mode for 2004. CRFS results showed that California recreational harvest guidelines or allocations for overfished species were not exceeded in 2004. Initially, California′s 2005 recreational fishery was structured with a more restrictive season than the 2004 fishery, based on the Marine Recreational Fisheries Statistics Survey (MRFSS) data through 2003. Based on the CRFS catch results from 2004, in conjunction with the improved ability for real-time inseason catch monitoring through CRFS, the Pacific Council conveyed its willingness to consider CRFS estimates to support inseason adjustments to California's recreational fishery in 2005.

CDFG reviewed the uncertainties and risks associated with using the CRFS data including: (1) identification of technical errors in CRFS during its first year of operation; (2) the tracking of uncalibrated 2004 CRFS data against harvest targets set for unassessed and assessed stocks; and (3) impacts on fishing opportunities of other fisheries and sectors. As with any new program involving sampling and expansions, there is the risk that technical errors may be identified during implementation. The RecFIN Statistical Sub-committee (RecFIN SSC) met recently and evaluated the data inputs from the first year of the CRFS sampling program including errors that could potentially affect the catch estimates generated for 2004. The RecFIN SSC′s findings primarily focused on sampling errors in the Angler License Database (ALD) survey. Specifically, the RecFIN SSC noted that licensed anglers were kept in the sample population for only one sample period (month) following entry into the angler license database, instead of being retained for the remainder of the calendar year. Sampling errors such as this one can cause statistical problems and biases in the estimate. However, further discussion highlighted the fact that ALD effort estimates are only used to estimate catch for modes of fishing that cannot be observed directly in the field. This includes beach/bank anglers, private access boats, and night-time fishing components of the private/rental, man-made, and beach/bank modes. Considering that only about 10 percent of the overall catch and effort for all sportfishing in California comes from these anglers, of which the majority are beach and bank anglers, and that anglers fishing from beach and banks do not catch significant numbers of groundfish, the Pacific Council concluded that the impact of this error on the estimates for groundfish species of concern should be minimal.

CDFG also summarized their plans for tracking inseason take, instituting closures, and providing regulation and educational information to the public. CDFG staff will review recreational catch estimates on a monthly basis for inseason tracking and provide these estimates to the Pacific Council's Groundfish Management Team. In addition, as 2005 monthly catch estimates become available, CDFG will replace the projected catches with the estimates for that month and will use these along with the remaining projected impacts to evaluate whether harvest targets will be met as scheduled. If catches are projected to exceed specific harvest targets specified in Federal regulations, then the Director of CDFG can take action to restrict the fishery to slow the harvest or close the fishery when warranted. This state action becomes effective 10 days after the state has issued public notice on the action. To keep anglers informed and assist with rapid distribution of concerns or requests to slow fishing, CDFG has established a communication network with charter/party boat fishing vessel operators and approximately 20 recreational angling associations and clubs (this network successfully stopped the targeting of widow rockfish in Southern California waters during 2004).

At the Pacific Council's April 2005 meeting and using the 2004 recreational groundfish fishing regulations as a starting point, CDFG recommended modifying the Federal fishing season in 2005 to liberalize the fishing seasons and RCAs based on new information. Primary considerations in adjusting the season were minimizing the canary and minor nearshore rockfish catch and distributing the fishing effort over a greater depth range to avoid concentrating the fishing effort on the nearshore groundfish species by using a combination of open seasons and allowable depths of fishing. In all areas, California regulations will allow divers and shore anglers to take groundfish, except lingcod in December, during the season closures. The impacts of this action on overfished species and on other groundfish species are projected to remain within the harvest targets and OYs for those species.

Therefore, the Pacific Council recommended and NMFS is implementing changes to California's recreational groundfish fishery as follows:

(1) From the California/Oregon border to 40°10′ N. lat., extend the season for all species from July through October to May through December, except that lingcod is closed in December and “other flatfish” remains status quo;

(2) From the California/Oregon border to 40°10′ N. lat., restrict the recreational RCA from open shoreward of a boundary line approximating the 40-fm (73-m) depth contour to open shoreward of a boundary line approximating the 30 fm (55 m) depth contour (except the “other flatfish” remains exempt from the RCA);

(3) Between 40°10′ N. lat. to 36° N. lat., extend the season for all species (except lingcod and “other flatfish” remain status quo) from July through November to July through December;

(4) Between 36° N. lat. to 34°27′ N. lat., liberalize the recreational RCA from open between boundary lines approximating the 20-fm (37-m) and 40-fm (73-m) depth contours to open shoreward of a boundary line approximating the 40 fm (73 m) depth contour for all species (except “other flatfish” remains status quo); (5) South of 34°27′ N. lat., extend the season for nearshore rockfish, California sheephead, cabezon, greenlings, ocean whitefish and shelf rockfish from March through September to March through December;

(6) South of 34°27′ N. lat., extend the season for lingcod from April through September to April through November;

(7) South of 34°27′ N. lat., the season for California scorpionfish and the season and RCA exemption for “other flatfish” remains status quo;

(8) South of 34°27′ N. lat., liberalize the recreational RCA from open between boundary lines approximating the 30-fm (55-m) and 60 fm (110 m) depth contours from April through June, shoreward of a boundary line approximating the 40-fm (73-m) depth contour from July through August and November, and shoreward of the 20-fm (37-m) depth contour in December to open shoreward of a boundary line approximating the 60-fm (110-m) depth contour from April through August and November through December (the recreational RCA for March remains status quo, open between boundary lines approximating the 30-fm (55-m) through 60-fm (110- m) depth contours); (9) South of 34°27′ N. lat., restrict the recreational RCA from open shoreward of a boundary line approximating the 40 fm (73 m) depth contour from September through October to open shoreward of a boundary line approximating the 30 fm (55 m) depth contour from September through October. The Pacific Council also recommended that NMFS use its authority to take action similar to that taken by CDFG between Council meetings, if needed to restrict the fisheries.

Corrections and Clarifications

The following corrections and clarifications are being made to the 2005-2006 management measures.

Limited entry trawl chafing gear language in Federal regulations at 50 CFR 660.381(b)(3) is clarified to include the chafing gear requirements for small footrope trawl gear (currently found in § 660.381(b)(5) and referenced in the chafing gear requirements at § 660.381(b)(3)) with all other chafing gear requirements.

Chafing gear requirements at § 660.381(b)(3) currently read as follows:

Chafing gear may encircle no more than 50 percent of the net′s circumference, except as provided in paragraph (b)(5) of this section. No section of chafing gear may be longer than 50 meshes of the net to which it is attached. Except at the corners, the terminal end of each section of chafing gear must not be connected to the net. (The terminal end is the end farthest from the mouth of the net.) Chafing gear must be attached outside any riblines and restraining straps. There is no limit on the number of sections of chafing gear on a net.

In addition, chafing gear requirements for small footrope trawl gear are mentioned in § 660.381(b)(5) as follows:

Chafing gear may be used only on the last 50 meshes of a small footrope trawl, measured from the terminal (closed) end of the codend.

To clarify the chafing gear language and keep all chafing gear requirements in one location in the regulations, the Pacific Council recommended and NMFS will modify the regulations to read as follows:

Chafing gear may encircle no more than 50 percent of the net′s circumference. No section of chafing gear may be longer than 50 meshes of the net to which it is attached. Chafing gear may be used only on the last 50 meshes of a small footrope trawl, measured from the terminal (closed) end of the codend. Except at the corners, the terminal end of each section of chafing gear on all trawl gear must not be connected to the net. (The terminal end is the end farthest from the mouth of the net.) Chafing gear must be attached outside any riblines and restraining straps. There is no limit on the number of sections of chafing gear on a net.

Limited entry selective flatfish trawl gear language in Federal regulations at 50 CFR 660.381(b)(5)(i) is modified to preserve the original intent of the gear requirement. Buoy placement on selective flatfish trawl gear can alter the size and shape of the trawl mouth. Selective flatfish trawl gear regulations are intended to require that the net's mouth be a flattened oval shape, much wider than it is tall. Changing the shape of the selective flatfish trawl mouth might result in an increased take of rockfish, thus changing the encounter rates of rockfish in targeted flatfish trips with this gear. Trip limits for species taken with selective flatfish gear were previously set for 2005 based on assumptions of incidental rockfish catch with this gear. The Pacific Council′s Groundfish Advisory Subpanel alerted the Groundfish Management Team and Enforcement Consultants that some flatfish participants were modifying the shape of the selective flatfish trawl net mouth through strategic placement of buoys on the net′s upper edge. Increasing the take of rockfish by modifying the gear with buoy placement from its original configuration is not accounted for by the trawl model used to set 2005 trip limits and may, therefore, result in achieving rockfish OYs more quickly than anticipated. The purpose of this modification to selective flatfish trawl gear requirements is to specify allowable buoy placement and the number of riblines to preserve the original intent of the gear requirement.

Selective flatfish trawl gear requirements at § 660.381(b)(5)(i) currently read as follows:

The selective flatfish trawl net must be a two-seamed net and its breastline may not be longer than 3 ft (0.92 m) in length. There may be no floats along the center third of the selective flatfish trawl net's headrope and the headrope must be at least 30 percent longer in length than the footrope. Selective flatfish trawl gear may not have a footrope that is longer than 105 ft (32.26 m) in length. An explanatory diagram of a selective flatfish trawl net is provided as Figure 1 of part 660, subpart G.

The Pacific Council recommended and NMFS will modify the selective flatfish trawl gear requirement to read as follows:

The selective flatfish trawl net must be a two-seamed net with no more than two riblines, excluding the codend. The breastline may not be longer than 3 ft (0.92 m) in length. There may be no floats along the center third of the headrope or attached to the top panel except on the riblines. The footrope must be less than 105 ft (32.26 m) in length. The headrope must be not less than 30 percent longer than the footrope. An explanatory diagram of a selective flatfish trawl net is provided as Figure 1 of part 660, subpart G.

Classification

These actions are authorized by the Pacific Coast groundfish FMP, the Halibut Act, and their implementing regulations and are based on the most recent data available. The aggregate data upon which these actions are based are available for public inspection at the Office of the Administrator, Northwest Region, NMFS, (see ADDRESSES) during business hours.

Pursuant to 5 U.S.C. 553(b)(B), there is good cause to waive prior notice and an opportunity for public comment on the management measures and the selective flatfish trawl gear requirements, as notice and comment would be impracticable and contrary to the public interest. The data upon which these recommendations were based was provided to the Pacific Council and the Pacific Council made its recommendations at its April 3-8, 2005, meeting in Tacoma, WA. There was not sufficient time after that meeting to draft this document and undergo proposed and final rulemaking before these actions need to be in effect at the start of the next cumulative limit period, May 1, 2005, as explained below. For the actions in this notice, prior notice and opportunity for comment would be impracticable and contrary to the public interest because affording the time necessary for prior notice and opportunity for public comment would impede the Agency's function of managing fisheries using the best available science to approach without exceeding the OYs for federally managed species.

The adjustments to management measures in this document include changes to the commercial and recreational groundfish fisheries, including corrections and clarifications. Changes to the trawl RCA and the limited entry trawl trip limits must be implemented in a timely manner by May 1, 2005, so that harvest of groundfish, including overfished species, stays within the harvest levels projected for 2005 based on modeling and the most current catch projections available. Changes to the limited entry fixed gear primary sablefish fishery to allow the retention of Pacific halibut must be implemented by May 1, 2005, in order to provide an opportunity for participants in this fishery to catch the available quota projected to be taken based on the ratio of halibut to sablefish landings set. Changes to California's recreational fishery management measures for seasons and recreational RCAs must be implemented as soon as possible and no later than May 1, 2005, the next recreational fishery management month, in order to conform Federal and state recreational regulations, to protect overfished groundfish species, to keep the harvest of other groundfish species within the harvest levels projected for 2005, and to allow an opportunity for anglers to harvest the available harvest guidelines. Delaying any of these changes would result in management measures that fail to use the best available science and, in some cases, could lead to early closures of the fishery if harvest of groundfish exceeds levels projected for 2005. This would be contrary to the public interest because it would impair achievement of one of the Pacific Coast Groundfish FMP objectives of providing for year-round harvest opportunities or extending fishing opportunities as long as practicable during the fishing year. Delaying these changes would also be contrary to the public's interest in protecting overfished species and other groundfish species from overfishing.

NMFS has also provided clarifications to Federal regulations that clarify the limited entry trawl gear requirement for chafing gear. Affording an opportunity for prior notice and comment on this clarification is unnecessary because it is not a substantive change to the regulations and is contrary to the public interest because it clarifies regulations that might otherwise be confusing to the public.

For these reasons, good cause also exists to waive the 30 day delay in effectiveness requirement under 5 U.S.C. 553 (d)(3) for all actions taken in this notice except the clarification to the selective flatfish trawl gear language. The clarification to selective flatfish trawl gear language may require some fishermen to move buoys and/or riblines on their trawl nets to conform with the originally intended selective flatfish trawl gear configuration. In order to provide fishermen adequate time to reconfigure their trawl gear, the modified language for the selective flatfish trawl gear will take effect 30 days after publication in the Federal Register, June 3, 2005.

These actions are taken under the authority of 50 CFR 300.63(b)(3)and 660.370(c) and are exempt from review under Executive Order 12866.

List of Subjects in 50 CFR Part 660

Administrative practice and procedure, American Samoa, Fisheries, Fishing, Guam, Hawaiian Natives, Indians, Northern Mariana Islands, Reporting and recordkeeping requirements.

Dated: April 26, 2005.
Ann M. Lange,
Acting Director, Office of Sustainable Fisheries, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq., and 16 U.S.C. 773-773k

2. In § 660.372, paragraph (b)(3)(iv) is added to read as follows:

§ 660.372 Fixed gear sablefish fishery management.

* * * * *

(b) * * *

(3) * * *

(iv) Incidental halibut retention north of Pt. Chehalis, WA (46°53.30′ N. lat.). Vessels authorized to participate in the primary sablefish fishery, licensed by the International Pacific Halibut Commission for commercial fishing in Area 2A (waters off Washington, Oregon, California), and fishing with longline gear north of Pt. Chehalis, WA (46°53.30′ N. lat.) may land up to the following cumulative limits: 100 lb (45 kg) dressed weight of halibut per 1,000 lb (454 kg) dressed weight of sablefish, plus up to two additional halibut per fishing trip in excess of this ratio. “Dressed” halibut in this area means halibut landed eviscerated with their heads on. Halibut taken and retained in the primary sablefish fishery north of Pt. Chehalis may only be landed north of Pt. Chehalis and may not be possessed or landed south of Pt. Chehalis.

* * * * *

3. In § 660.381, paragraphs (b)(3), (b)(5) Introductory text and (b)(5)(i) are revised to read as follows:

§ 660.381 Limited entry trawl fishery management measures.

* * * * *

(b) * * *

(3) Chafing gear. Chafing gear may encircle no more than 50 percent of the net's circumference. No section of chafing gear may be longer than 50 meshes of the net to which it is attached. Chafing gear may be used only on the last 50 meshes of a small footrope trawl, measured from the terminal (closed) end of the codend. Except at the corners, the terminal end of each section of chafing gear on all trawl gear must not be connected to the net. (The terminal end is the end farthest from the mouth of the net.) Chafing gear must be attached outside any riblines and restraining straps. There is no limit on the number of sections of chafing gear on a net.

* * * * *

(5) Small footrope trawl gear. Small footrope gear is bottom trawl gear with a footrope diameter of 8 inches (20 cm) or smaller (including rollers, bobbins or other material encircling or tied along the length of the footrope). Other lines or ropes that run parallel to the footrope may not be augmented with material encircling or tied along their length such that they have a diameter larger than 8 inches (20 cm). For enforcement purposes, the footrope will be measured in a straight line from the outside edge to the opposite outside edge at the widest part on any individual part, including any individual disk, roller, bobbin, or any other device.

(i) Selective flatfish trawl gear is a type of small footrope trawl gear. The selective flatfish trawl net must be a two-seamed net with no more than two riblines, excluding the codend. The breastline may not be longer than 3 ft (0.92 m) in length. There may be no floats along the center third of the headrope or attached to the top panel except on the riblines. The footrope must be less than 105 ft (32.26 m) in length. The headrope must be not less than 30 percent longer than the footrope. An explanatory diagram of a selective flatfish trawl net is provided as Figure 1 of part 660, subpart G.

* * * * *

4. In § 660.384, paragraphs (c)(3)(i)(A)(1), (3) and (4); (c)(3)(ii)(A)(1), (2) and (4); (c)(3)(iii)(A)(1) and (4); and (c)(3)(v)(A)(1) are revised to read as follows:

§ 660.384 Recreational fishery management measures.

* * * * *

(c) * * *

(3) * * *

(i) * * *

(A) * * *

(1) Between 42° N. lat. (California/Oregon border) and 40°10.00′ N. lat., recreational fishing for all groundfish (except “other flatfish” as specified in paragraph (c)(3)(iv) of this section) is prohibited seaward of a boundary line approximating the 30-fm (55-m) depth contour along the mainland coast and along islands and offshore seamounts from May 1 through December 31; and is closed entirely from January 1 through April 30 (i.e., prohibited seaward of the shoreline). Coordinates for the boundary line approximating the 30-fm (55-m) depth contour are specified in § 660.391.

* * * * *

(3) Between 36° N. lat. and 34°27.00′ N. lat., recreational fishing for all groundfish (except “other flatfish” as specified in paragraph (c)(3)(iv) of this section) is prohibited seaward of a boundary line approximating the 40-fm (73-m) depth contour along the mainland coast and along islands and offshore seamounts from May 1 through September 30; and is closed entirely from January 1 through April 30 and from October 1 through December 31 (i.e., prohibited seaward of the shoreline). Coordinates for the boundary line approximating the 40-fm (73-m) depth contour are specified in § 660.391.

(4) South of 34°27.00′ N. lat., recreational fishing for all groundfish (except California scorpionfish as specified below in this paragraph and in paragraph (v) and “other flatfish” as specified in paragraph (c)(3)(iv) of this section) is prohibited shoreward of a boundary line approximating the 30-fm (55-m) depth contour and seaward of a boundary line approximating the 60-fm (110-m) depth contour along the mainland coast and along islands and offshore seamounts from March 1 through April 15; is prohibited seaward of a boundary line approximating the 60-fm (110-m) depth contour from April 16 through August 30 and November 1 through December 31; and is prohibited seaward of a boundary line approximating the 30-fm (55-m) depth contour from September 1 through October 31; except in the CCAs where fishing is prohibited seaward of the 20-fm (37-m) depth contour when the fishing season is open (see paragraph (c)(3)(i)(B) of this section). Recreational fishing for all groundfish (except “other flatfish”) is closed entirely from January 1 through February 29 (i.e., prohibited seaward of the shoreline). Recreational fishing for California scorpionfish south of 34°27.00′ N. lat. is prohibited seaward of a boundary line approximating the 30-fm (55-m) depth contour from October 1 through October 31, and seaward of the 60-fm (110-m) depth contour from November 1 through December 31, except in the CCAs where fishing is prohibited seaward of the 20-fm (37-m) depth contour when the fishing season is open. Recreational fishing for California scorpionfish south of 34°27.00′ N. lat. is closed entirely from January 1 through September 30 (i.e., prohibited seaward of the shoreline). Coordinates for the boundary line approximating the 30-fm (55-m) and 60-fm (110-m) depth contours are specified in §§ 660.391 and 660.392.

* * * * *

(ii) * * *

(A) * * *

(1) North of 40°10.00′ N. lat., recreational fishing for the RCG Complex is open from May 1 through December 31.

(2) Between 40°10.00′ N. lat. and 36° N. lat., recreational fishing for the RCG Complex is open from July 1 through December 31 (i.e., it′s closed from January 1 through June 30).

* * * * *

(4) South of 34°27.00′ N. lat., recreational fishing for the RCG Complex is open from March 1 through December 31 (i.e., it′s closed from January 1 through February 29).

* * * * *

(iii) * * *

(A) * * *

(1) North of 40°10.00′ N. lat., recreational fishing for lingcod is open from May 1 through November 30.

* * * * *

(4) South of 34°27.00′ N. lat., recreational fishing for lingcod is open from April 1 through November 30 (i.e., it′s closed from January 1 through March 31 and from December 1 through December 31).

* * * * *

(v) * * *

(A) * * *

(1) Between 40°10.00′ N. lat. and 36° N. lat., recreational fishing for California scorpionfish is open from July 1 through December 31 (i.e., it′s closed from January 1 through June 30).

* * * * *

5. In part 660, subpart G, Tables 3 (North and South) and Table 5 (South) are revised to read as follows:

BILLING CODE 3510-22-S

[FR Doc. 05-8695 Filed 4-29-05; 12:05 pm]

BILLING CODE 3510-22-C